DEPARTMENT OF TRANSPORTATION

Maritime Administration

[USCG-2008-1239]

Texas Offshore Port System Crude Oil Deepwater Port License Application

AGENCY: Maritime Administration, DOT.

ACTION: Notice of application.

SUMMARY: The Maritime Administration and the Coast Guard announce that they have received an application for the licensing of a crude oil deepwater port and that the application contains the required information. This notice summarizes the applicant's plans and the procedures that will be followed in considering the application.

DATES: The Deepwater Port Act of 1974, as amended, requires a public hearing on this application within 240 days of the publication of this notice, and a decision on the application not later than 90 days after the final public hearing.

ADDRESSES: The public docket for USCG-2008-1239 is maintained by the: Department of Transportation, Docket Management Facility, West Building, Ground Floor, Room W12-140, 1200 New Jersey Avenue, SE., Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Ray Martin, U.S. Coast Guard, telephone: 202-372-1449, e-mail: Raymond.W.Martin@uscg.mil or Linden Houston, U.S. Maritime Administration, telephone: 202-366-4839, e-mail: Linden.Houston@dot.gov. If you have questions on viewing the Docket, call Renee V. Wright, Program Manager, Docket Operations, telephone: 202-493-0402.

SUPPLEMENTARY INFORMATION:

Receipt of application

On December 8, 2008, the Coast Guard and the Maritime Administration received an application from Texas Offshore Port System for all Federal authorizations required for a license to own, construct, and operate a deepwater port authorized under the Deepwater Port Act of 1974, as amended, 33 U.S.C. 1501 et seq. (the Act). On January 5, 2009, we determined that the application contains all information required by the Act to initiate processing.

Background

According to the Act, a deepwater port is a fixed or floating manmade structure other than a vessel, or a group of structures, located beyond State seaward boundaries and used or intended for use as a port or terminal for the transportation, storage, and further handling of oil or natural gas for transportation to any State.

A deepwater port must be licensed by the Maritime Administrator (by delegated authority of the Secretary of Transportation, published on June 18, 2003 (68 FR 36496)). Statutory and regulatory requirements for licensing appear in 33 U.S.C. 1501 et seq. and in 33 CFR Part 148. Under delegations from and agreements between the Secretary of Transportation and the Secretary of Homeland Security, applications are processed by the Coast Guard and the Maritime Administration. Each application is considered on its merits.

The Act requires adherence to a strict timeline for processing an application. Once we determine that an application contains the required information, we must hold public hearings on the application within 240 days, and the Maritime Administrator must render a decision on the application within 330 days. We will publish additional Federal Register notices to inform you of these public hearings and other procedural milestones, including the environmental review. The Maritime Administrator's decision, and other key documents, will be filed in the public docket.

At least one public hearing must take place in each adjacent coastal state. For purposes of the Act, Texas is the adjacent coastal state for this application. Other states can apply to the Maritime Administrator for adjacent coastal state status in accordance with 33 U.S.C. 1508(a)(2).

Summary of the Application

Texas Offshore Port System, a general partnership consisting of Oiltanking Freeport, L.P., TEPPCO O/S Port System, LLC and Enterprise Offshore Port System, LLC, proposes to own, construct, and operate a deepwater port (DWP), named Texas Offshore Port System (TOPS), in the Federal waters of the Outer Continental Shelf in Minerals Management Service (MMS) lease block Galveston Area A56 (GA 56), approximately 30 statute miles southeast of Freeport, Texas, in a water depth of approximately 120 feet. The proposed DWP will serve as an offshore crude oil receiving terminal and transmission facility. An average of 1,700,000 barrels of oil per day will be offloaded at the terminal and will be delivered via a new pipeline that will terminate at a crude oil storage terminal located in Texas City, Texas.

Two Single Point Mooring (SPM) Buoys will be installed to offload crude oil from crude oil tankers. A third SPM may be added in the future. Dual 42-inch outside diameter (OD), 4,000-ft (1,219-m) long offloading pipelines will carry the crude oil to a new Metering and Pumping Platform. At the platform the crude oil will be increased in pressure to 1,950 pounds per square inch gauge discharge pressure to achieve a flow rate of up to 100,000 barrels per hour into the departing Offshore Pipeline. A Quarters and Control Platform will be connected by a bridge to the Metering and Pumping Platform. A new 8⅝-inch OD fuel gas pipeline that will be approximately 36 miles long (58 km) will supply natural gas to the Metering and Pumping Platform. It will originate from an existing platform in MMS lease block Brazos Area BR 538 (BR 538).

The new Offshore Pipeline will be a 42-inch OD pipeline and approximately 34.86 miles long. It will transport the crude oil to a new valve station located in Freeport, Texas. From the valve station a new 48-mile, 42-inch OD Onshore Pipeline will transfer the crude oil to a new crude oil storage terminal in Texas City, Texas. A new intermediate Onshore Pump Station will be located along the Onshore Pipeline to boost the pressure of the crude oil. The new crude oil storage terminal, the Texas City Crude Terminal, will consist of seven tanks, six with a storage capacity of 600,000 barrels and one with a storage capacity of 300,000 barrels.

Pipelines and structures such as the moorings may require permits under Section 404 of the Clean Water Act and Section 10 of the Rivers and Harbors Act which are administered by the U.S. Army Corps of Engineers (USACE).

TOPS will also require permits from the Environmental Protection Agency (EPA) pursuant to the provisions of the Clean Air Act, as amended, and the Clean Water Act, as amended.

The new pipeline will be included in the National Environmental Policy Act (NEPA) review as part of the deepwater port application process. EPA and the USACE, among others, are cooperating agencies and will assist in the NEPA process as described in 40 CFR 1501.6; may participate in scoping meetings; and will incorporate the environmental impact statement (EIS) into their permitting processes. Comments sent to EPA or USACE will also be incorporated into the DOT docket and EIS to ensure consistency with the NEPA Process.

Should a license be issued, TOPS anticipates being able to offload and transport crude oil in November 2010. The deepwater port would be designed, constructed and operated in accordance with applicable codes and standards.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority 49 CFR 1.66)

Dated: January 6, 2009.
By Order of the Maritime Administrator.
Leonard Sutter,
Secretary, Maritime Administration.

[FR Doc. E9-293 Filed 1-8-09; 8:45 am]

BILLING CODE 4910-81-P